DEPARTMENT OF HEALTH AND HUMAN SERVICES

Public Health Service

42 CFR Part 137

Tribal Self-Governance

CFR Correction

In Title 42 of the Code of Federal Regulations, Parts 1 to 399, revised as of October 1, 2012, on page 932, in the second column, the heading “Subpart P—Secretarial Responsibilities” is corrected to read “Subpart O—Secretarial Responsibilities”.

[FR Doc. 2013-17859 Filed 7-23-13; 8:45 am]

BILLING CODE 1505-01-D